DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Gear Identification Requirements.

OMB Control Number: 0648-0353.

Form Number(s): None.

Type of Request: Regular (request for extension of an approved information collection).

Number of Respondents: 827.

Average Hours per Response: Marking longline pot gear marker buoys and groundfish hook-and-line marker buoys, 15 minutes per buoy; 1 hour each for the Vessel Registration and Request for IFQ Sablefish Pot Gear Tags form and for the Request for Replacement of Longline Pot Gear Tags form.

Burden Hours: 1,586.

Needs and Uses: Regulations pertaining to gear markings are set forth at 50 CFR part 679 and in the annual management measures published in the Federal Register pursuant to 50 CFR 300.62. This information collection contains the following gear identification requirements for participants in the groundfish fisheries in the Exclusive Economic Zone off Alaska and for vessels using longline pot gear to fish for individual fishing quota (IFQ) sablefish in the Gulf of Alaska (GOA).

Marker Buoys

All hook-and-line, longline pot, and pot-and-line marker buoys carried on board or used by any vessel regulated under 50 CFR part 679 must be marked with the vessel's Federal Fisheries Permit number or Alaska Department of Fish and Game vessel registration number. Regulations that marker buoys be marked with identification information are essential to facilitate fisheries enforcement and actions concerning damage, loss, and civil proceedings. The ability to link fishing gear to the vessel owner or operator is crucial to enforcement of regulations.

Longline Pot Gear Vessel Registration and Tags

A vessel owner using longline pot gear to fish for IFQ sablefish in the GOA must annually register their vessel with the National Marine Fisheries Service (NMFS) and be assigned pot tags for that vessel. Vessel registration and the use of pot tags provide NMFS with an additional enforcement tool to ensure that the pot limits are not exceeded. The use of pot tags requires a uniquely identified tag to be securely affixed to each pot, which allows at-sea enforcement and post-trip verification of the number of pots fished. NMFS uses information obtained from respondents applying for replacement tags to enforcement of pot limits and enhance tracking of lost fishing gear.

Vessel owners submit the form “Vessel Registration and Request for IFQ Sablefish Pot Gear Tags” to annually register their vessels and to request new pot tags if a vessel does not have previously issued tags. Tags assigned to a vessel in previous years are valid as long as the tag can be secured to a pot and the serial number is legible. Vessel owners submit the form “Request for Replacement of Longline Pot Gear Tags” if previously issued tags have been lost, stolen, or mutilated and need to be replaced.

Affected Public: Individuals or households; Business or other for-profit organizations.

Frequency: Annually; On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-03461 Filed 2-20-20; 8:45 am]

BILLING CODE 3510-22-P